DEPARTMENT OF COMMERCE

United States Patent and Trademark Office

Submission for OMB Review; Comment Request; Secrecy and License To Export

The United States Patent and Trademark Office (USPTO) will submit to the Office of Management and Budget (OMB) for clearance the following proposal for collection of information under the provisions of the Paperwork Reduction Act of 1995.

Agency: United States Patent and Trademark Office, Department of Commerce.

Title: Secrecy and License to Export.

OMB Control Number: 0651-0034.

Form Number(s): There are no forms in this information collection.

Type of Request: Revision of a currently approved information collection.

Number of Respondents: 4,434.

Average Hours per Response: The USPTO estimates that it will take the public from 30 minutes (0.50 hours) to 4 hours to gather the necessary information, prepare the appropriate document, and submit the information to the USPTO.

Burden Hours: 2,798 hours.

Hourly Cost Burden: $1,225,524.

Non-hourly Cost Burden: $788,287.

Needs and Uses:

In the interest of national security, patent laws and regulations place certain limitations on the disclosure of information contained in patents and patent applications and on the filing of applications for patents in foreign countries.

The filing of a patent application is considered a request for a foreign filing license. However, in some instances an applicant may need a license for filing patent applications in foreign countries prior to a filing in the USPTO or sooner than the anticipated licensing of a pending patent application.

Responses to this information collection are necessary to obtain a permit to disclose, modify, or rescind a secrecy order; to obtain general or group permits; to obtain foreign filing licenses, including retroactive foreign filing licenses; to expedite the handling of a license; or to change the scope of a license.

Affected Public: Individuals or households; private sector.

Frequency: On occasion.

Respondent's Obligation: Required to obtain or retain benefits.

OMB Desk Officer: Nicholas A. Fraser, email: Nicholas_A._Fraser@omb.eop.gov.

Once submitted, the request will be publicly available in electronic format through reginfo.gov. Follow the instructions to view Department of Commerce information collections currently under review by OMB.

Further information can be obtained by:

• Email: InformationCollection@uspto.gov. Include “0651-0034 information request” in the subject line of the message.

• Mail: Kimberly Hardy, Office of the Chief Administrative Officer, United States Patent and Trademark Office, P.O. Box 1450, Alexandria, VA 22313-1450.

Written comments and recommendations for the proposed information collection should be sent on or before March 30, 2020 to Nicholas A. Fraser, OMB Desk Officer, via email to Nicholas_A._Fraser@omb.eop.gov, or by fax to 202-395-5167, marked to the attention of Nicholas A. Fraser.

Kimberly Hardy,
Information Collections Officer, Office of the Chief Administrative Officer, United States Patent and Trademark Office.

[FR Doc. 2020-04134 Filed 2-27-20; 8:45 am]

BILLING CODE 3510-16-P